DEPARTMENT OF TRANSPORTATION

National Highway Traffic Safety Administration

[DOT Docket No. NHTSA-2012-0012]

Proposed Collection of Information; Alcohol Impaired Driving Countermeasures

AGENCY: National Highway Traffic Safety Administration (NHTSA), Department of Transportation (DOT).

ACTION: Request for public comment on proposed collection of information.

SUMMARY: In compliance with the Paperwork Reduction Act of 1995 (PRA) (44 U.S.C. 3501 et seq.), on February 9, 2012 the agency published a 60 day notice in the Federal Register soliciting public comment on the proposed information collection abstracted below. In further compliance with the PRA, the agency now publishes this second notice announcing the submission of its proposed collection to the Office of Management and Budget (OMB) for review and notifying the public about how to submit comments in the proposed collection to OMB during the 30-day comment period. The Federal Register Notice with a 60-day comment period was published on February 9, 2012 Vol. 77, No. 27, Page 6856.

DATES: Comments must be submitted on or before July 5, 2012.

ADDRESSES: Comments must refer to the docket notice numbers cited at the beginning of this notice and be submitted to Docket Management, Room PL-401, 400 Seventh Street SW., Washington, DC 20590. Please identify the proposed collection of information for which a comment is provided, by referencing its OMB clearance Number. It is requested, but not required, that 2 copies of the comment be provided. The Docket Section is open on weekdays from 10 a.m. to 5 p.m.

FOR FURTHER INFORMATION CONTACT: Jackie Schraf at the National Highway Traffic Safety Administration, Office of Regional Operations and Program Delivery (NTI-200), 1200 New Jersey Avenue SE., W46-496, Washington, DC 20590. MS. Schraf's telephone number is (202) 366-3990. Please identify the relevant collection of information by referring to its OMB Control Number.

SUPPLEMENTARY INFORMATION: Under the Paperwork Reduction Act of 1995, before an agency submits a proposed collection of information to OMB for approval, it must first publish a document in the Federal Register providing a 60-day public comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

Title: 23 CFR, Part 1313, Alcohol Impaired Driving Countermeasures—Section 410.

OMB Number: 2127-0501.

Type of Request: Extension of currently approved collection of information.

Affected Public: The 50 States, the District of Columbia, Puerto Rico, Virgin Islands, Guam, American Samoa and the Commonwealth of the Northern Mariana Islands.

Abstract: An impaired driving incentive grant is available to States that have an alcohol fatality rate of 0.5 or less per 100 million vehicle miles traveled as determined by using the most recent Fatality Analysis Reporting System (FARS) data or that are one of the ten States that have the highest alcohol related fatality rates as determined by using the most recent FARS data. States designated as a high fatality rate State must submit a grant expenditures plan for conducting a high visibility impaired driving law enforcement program and a report on the previous years activities. States may also qualify through meeting specified program criteria. To demonstrate compliance using program criteria a State must submit an application that shows how they met three of eight criteria in FY2006, four of eight criteria in FY2007 and five of eight criteria in FY2008, FY2009, and beyond.

Estimated Annual Burden: 1261 hours annually.

Estimated Number of respondents: 49.

Comments are invited on: Whether the proposed collection of information is necessary for the proper performance of the functions of the Department, including whether the information will have practical utility; the accuracy of the Departments estimate of the burden of the proposed information collection; and ways to enhance quality and clarity of information.

Mary D. Gunnels,
Associate Administrator, Regional Operations and Program Delivery.

[FR Doc. 2012-13553 Filed 6-4-12; 8:45 am]

BILLING CODE 4910-59-P